Proclamation 8728 of October 3, 2011

National Substance Abuse Prevention Month, 2011

By the President of the United States of America

A Proclamation

By providing strong support systems for our loved ones, and by talking with our children about the dangers of alcohol and other drugs, we can increase their chances of living long, healthy, and productive lives. During National Substance Abuse Prevention Month, we celebrate those dedicated to prevention efforts, and we renew our commitment to the well-being of all Americans.

The damage done by drugs is felt far beyond the millions of Americans with diagnosable substance abuse or dependence problems—countless families and communities also live with the pain and heartbreak it causes. Relationships are destroyed, crime and violence blight communities, and dreams are shattered. Substance abuse touches every sector of our society, straining our health care and criminal justice systems.

For all these reasons, my Administration has made prevention a central component of our National Drug Control Strategy, and we have developed the first-ever National Prevention Strategy. These strategies, inspired by the thousands of drug-free coalitions across our country, recognize the power of community-based prevention organizations, and suggest that prevention activities are most effective when informed by science, driven by State and local partnerships, and tuned to the specific needs of a community.

By investing in evidence-based prevention, we can also decrease emergency room visits and lower rates of chronic disease, easing the burden on America’s health care system. We can improve student achievement and workforce readiness. Most importantly, we must continue to support the efforts of parents and guardians, our children’s first teachers and role models, whose positive influence is the most effective deterrent to alcohol and other drug use and the strongest influence for making health choices.

Through national collaboration, community programs, and the help of engaged youth, parents, guardians, educators, law enforcement officers, clergy, and others, we can build a stronger, healthier America. This month and throughout the year, let us teach our Nation’s young people to tackle life’s challenges with resilience, hope, and determination.

NOW, THEREFORE, I, BARACK OBAMA, President of the United States of America, by virtue of the authority vested in me by the Constitution and the laws of the United States, do hereby proclaim October 2011 as National Substance Abuse Prevention Month. I call upon all Americans to engage in appropriate programs and activities to promote comprehensive substance abuse prevention efforts within their communities.

IN WITNESS WHEREOF, I have hereunto set my hand this third day of October, in the year of our Lord two thousand eleven, and of the Independence of the United States of America the two hundred and thirty-sixth.

[FR Doc. 2011-26148

Filed 10-6-11; 8:45 am]

Billing code 3295-F2-P